DEPARTMENT OF DEFENSE

Defense Threat Reduction Agency

Privacy Act of 1974; System of Records

AGENCY: Defense Threat Reduction Agency, DoD.

ACTION: Notice to delete a system of records.

SUMMARY: The Defense Threat Reduction Agency is deleting one system of records notice in its existing inventory of record systems subject to the Privacy Act of 1974, (5 U.S.C. 552a), as amended.

DATES: This proposed action would be effective without further notice on July 29, 2002 unless comments are received which result in a contrary determination.

ADDRESSES: Chief, Information Support Branch, Defense Threat Reduction Agency (ADF), 6801 Telegraph Road, Alexandria, VA 22310-3398.

FOR FURTHER INFORMATION CONTACT: Ms. Sandy Ford at (703) 325-1205.

SUPPLEMENTARY INFORMATION: The Defense Threat Reduction Agency systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: June 21, 2002.
Patricia L. Toppings,
Alternate OSD Federal Register Liaison Officer, Department of Defense.

HDTRA 018

System name:

Travel Management Program (December 14, 1998, 63 FR 68736).

Reason:

Records are now being maintained under the Defense Finance and Accounting Service system of records T7333, Travel Payment System (August 22, 2000, 65 FR 50973).

[FR Doc. 02-16186 Filed 6-26-02; 8:45 am]

BILLING CODE 5001-08-P